ENVIRONMENTAL PROTECTION AGENCY

40 CFR Part 52

[EPA-HQ-OAR-2019-0611; FRL-10017-82-OAR]

RIN 2060-AU54

Implementation of the Revoked 1997 8-Hour Ozone National Ambient Air Quality Standards; Updates to 40 CFR Part 52 for Areas That Attained by the Attainment Date; Withdrawal of Direct Final Rule

AGENCY: Environmental Protection Agency (EPA).

ACTION: Withdrawal of direct final rule.

SUMMARY: Due to the receipt of adverse comment, the Environmental Protection Agency (EPA) is withdrawing the October 9, 2020, direct final rule to update the Code of Federal Regulations (CFR) to codify its findings that nine areas in four states attained the revoked 1997 8-hour ozone National Ambient Air Quality Standards (NAAQS) by the applicable attainment dates. The EPA will address all comments received in a subsequent final rule for which the EPA will not institute a second comment period.

DATES: The direct final rule published on October 9, 2020 (85 FR 64046) is withdrawn effective December 9, 2020.

FOR FURTHER INFORMATION CONTACT: Ms. Virginia Raps, Air Quality Policy Division, Office of Air Quality Planning and Standards, U.S. Environmental Protection Agency, Mail Code: C539-01, Research Triangle Park, NC 27711, telephone (919) 541-4383; fax number: (919) 541-5315; email address: raps.virginia@epa.gov.

SUPPLEMENTARY INFORMATION: On October 9, 2020, the EPA published a direct final rule (85 FR 64046) to codify its findings that nine areas in four states attained the revoked 1997 8-hour ozone NAAQS by the applicable attainment dates. In the proposal for the direct final rule published on the same day (85 FR 64089), the EPA stated that written comments must be received on or before November 9, 2020. The EPA stated that if any relevant adverse comments are received on the proposal, the EPA will publish a timely withdrawal of the direct final rule in the Federal Register. On November 2, 2020, an anonymous comment was posted in the docket that the EPA interprets as relevant and adverse. Therefore, the EPA is withdrawing the direct final rule and will publish a subsequent final rule wherein the EPA will address all comments received. The EPA will not institute a second comment period on the subsequent final rule.

List of Subjects in 40 CFR Part 52

Environmental protection, Administrative practice and procedure, Air pollution control, Designations and classifications, Incorporation by reference, Intergovernmental relations, Nitrogen oxides, Ozone, Reporting and recordkeeping requirements, Volatile organic compounds.

Andrew Wheeler,
Administrator.

PART 52—APPROVAL AND PROMULGATION OF IMPLEMENTATION PLANS

Accordingly, the rule amending 40 CFR 52.282, 52.350, 52.1683, and 52.2585 published in the Federal Register on October 9, 2020 (85 FR 64046) is withdrawn effective December 9, 2020.

[FR Doc. 2020-26960 Filed 12-8-20; 8:45 am]

BILLING CODE 6560-50-P